DEPARTMENT OF ENERGY

Federal Energy Regulatory Commission

Combined Notice of Filings

Take notice that the Commission has received the following Natural Gas Pipeline Rate and Refund Report filings:

Filings Instituting Proceedings

Docket Numbers: RP19-38-000.

Applicants: Texas Eastern Transmission, LP.

Description: § 4(d) Rate Filing: Amended Negotiated Rates—STEP-CFE 911544, 911545 to be effective 10/4/2018.

Filed Date: 10/4/18.

Accession Number: 20181004-5074.

Comments Due: 5 p.m. ET 10/16/18.

Docket Numbers: RP19-39-000.

Applicants: El Paso Natural Gas Company, L.L.C.

Description: § 4(d) Rate Filing: Non-Conforming Agreement Amendment (SWG Nov 2018) to be effective 11/1/2018.

Filed Date: 10/4/18.

Accession Number: 20181004-5185.

Comments Due: 5 p.m. ET 10/16/18.

Docket Numbers: RP19-41-000.

Applicants: Rager Mountain Storage Company LLC.

Description: § 4(d) Rate Filing: URL Changes to be effective 11/5/2018.

Filed Date: 10/5/18.

Accession Number: 20181005-5165.

Comments Due: 5 p.m. ET 10/17/18.

Docket Numbers: RP19-43-000.

Applicants: Equitrans, L.P.

Description: § 4(d) Rate Filing: URL Changes to be effective 11/5/2018.

Filed Date: 10/5/18.

Accession Number: 20181005-5170.

Comments Due: 5 p.m. ET 10/17/18.

Docket Numbers: RP19-44-000.

Applicants: Texas Eastern Transmission, LP.

Description: § 4(d) Rate Filing: Negotiated Rate—Sempra—911550 eff 10-6-18 to be effective 10/6/2018.

Filed Date: 10/5/18.

Accession Number: 20181005-5171.

Comments Due: 5 p.m. ET 10/17/18.

Docket Numbers: RP19-45-000.

Applicants: Hardy Storage Company, LLC.

Description: eTariff filing per 1430: Hardy Storage 501-G Request for Waiver to be effective N/A.

Filed Date: 10/9/18.

Accession Number: 20181009-5003.

Comments Due: NOON p.m. ET-10/10/18.

Docket Numbers: RP19-46-000.

Applicants: Dominion Energy Overthrust Pipeline, LLC.

Description: § 4(d) Rate Filing: Statement of Negotiated Rates Version 8.0.0—Highpoint Operating Corporation to be effective 10/8/2018.

Filed Date: 10/9/18.

Accession Number: 20181009-5010.

Comments Due: 5 p.m. ET 10/22/18.

Docket Numbers: RP19-47-000.

Applicants: Tennessee Gas Pipeline Company, L.L.C.

Description: § 4(d) Rate Filing: Volume No. 2—Broad Run Expansion Project—Amendment to GTA to be effective 10/9/2018.

Filed Date: 10/9/18.

Accession Number: 20181009-5011.

Comments Due: 5 p.m. ET 10/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2018.
Nathaniel J. Davis, Sr.,
Deputy Secretary.

[FR Doc. 2018-22351 Filed 10-12-18; 8:45 am]

BILLING CODE 6717-01-P